DEPARTMENT OF JUSTICE

Drug Enforcement Administration

Manufacturer of Controlled Substances; Notice of Registration

By Notice dated June 23, 2011, and published in the Federal Register on July 5, 2011, 76 FR 39126, Chemtos, LLC, 14101 W. Highway 290, Building 2000B, Austin, Texas 78737, made application by renewal to the Drug Enforcement Administration (DEA) to be registered as a bulk manufacturer of the following basic classes of controlled substances:

Drug | Schedule
Amphetamine (1100) | II
Methamphetamine (1105) | II
Lisdexamfetamine (1205) | II
Methylphenidate (1724) | II
Nabilone (7379) | II
Phenylacetone (8501) | II
Cocaine (9041) | II
Codeine (9050) | II
Etorphine HCL (9059) | II
Dihydrocodeine (9120) | II
Oxycodone (9143) | II
Hydromorphone (9150) | II
Ecgonine (9180) | II
Ethylmorphine (9190) | II
Hydrocodone (9193) | II
Levomethorphan (9210) | II
Levorphanol (9220) | II
Isomethadone (9226) | II
Meperidine (9230) | II
Meperidine-intermediate-A (9232) | II
Meperidine-intermediate-B (9233) | II
Meperidine-intermediate-C (9234) | II
Methadone (9250) | II
Methadone intermediate (9254) | II
Morphine (9300) | II
Thebaine (9333) | II
Dihydroetorphine (9334) | II
Levo-alphacetylmethadol (9648) | II
Oxymorphone (9652) | II
Racemethorphan (9732) | II
Racemorphan (9733) | II

The company plans to manufacture small quantities of the listed controlled substances in bulk for distribution to its customers for use as reference standards.

No comments or objections have been received. DEA has considered the factors in 21 U.S.C. 823(a) and determined that the registration of Chemtos, LLC, to manufacture the listed basic classes of controlled substances is consistent with the public interest at this time. DEA has investigated Chemtos, LLC, to ensure that the company's registration is consistent with the public interest. The investigation has included inspection and testing of the company's physical security systems, verification of the company's compliance with state and local laws, and a review of the company's background and history. Therefore, pursuant to 21 U.S.C. 823(a), and in accordance with 21 CFR 1301.33, the above named company is granted registration as a bulk manufacturer of the basic classes of controlled substances listed.

Dated: November 21, 2011.
Joseph T. Rannazzisi,
Deputy Assistant Administrator, Office of Diversion Control, Drug Enforcement Administration.

[FR Doc. 2011-30690 Filed 11-28-11; 8:45 am]

BILLING CODE 4410-09-P